DEPARTMENT OF AGRICULTURE

Food and Nutrition Service

7 CFR Parts 271 and 278

RIN 0584-AE61

Providing Regulatory Flexibility for Retailers in the Supplemental Nutrition Assistance Program; Reopening of Comment Period

AGENCY: Food and Nutrition Service (FNS), USDA.

ACTION: Proposed rule; reopening of comment period.

SUMMARY: The Food and Nutrition Service (FNS, or the Agency) proposed to make changes to the Supplemental Nutrition Assistance Program (SNAP) regulations pertaining to the eligibility of certain SNAP retail food stores in a document published on April 5, 2019. FNS inadvertently excluded from publication two supporting documents to the proposed rule, the Regulatory Impact Analysis and the Regulatory Flexibility Analysis. These have now been published as part of the docket for the proposed rule. The agency is extending the comment period to provide the public an opportunity to review and provide comment on these documents as part of the rulemaking record. This document reopens the comment period until June 20, 2019.

DATES: The comment period for the information collection requirements published on April 5, 2019, 84 FR 13555, has been reopened from June 14, 2019 through June 20, 2019. To be assured of consideration, comments must be received on or before June 20, 2019.

ADDRESSES: The Food and Nutrition Service, USDA, invites interested persons to submit written comments on this proposed rule. Comments may be submitted in writing by one of the following methods:

• Preferred Method: Federal eRulemaking Portal: Go to http://www.regulations.gov. Follow the online instructions for submitting comments.

• Mail: Send comments to Vicky Robinson, Chief, Retailer Management and Issuance Branch, Retailer Policy and Management Division, FNS, 3101 Park Center Drive, Room 418, Alexandria, Virginia 22302.

• All written comments submitted in response to this proposed rule will be included in the record and will be made available to the public. Please be advised that the substance of the comments and the identity of the individuals or entities submitting the comments will be subject to public disclosure. FNS will make the written comments publicly available on the internet via http://www.regulations.gov.

FOR FURTHER INFORMATION CONTACT: Vicky Robinson, Chief, Retailer Management and Issuance Branch, Retailer Policy and Management Division, FNS, 3101 Park Center Drive, Room 418, Alexandria, Virginia 22302; telephone 703-305-2476, email: vicky.robinson@usda.gov.

SUPPLEMENTARY INFORMATION: FNS proposes to make changes to the SNAP regulations pertaining to the eligibility of certain SNAP retail food stores. These proposed changes are in response to the Consolidated Appropriations Acts of 2017 and 2018, which prohibited the U.S. Department of Agriculture (USDA) from implementing two retailer stocking provisions (the “Breadth of Stock” provision and the “Definition of `Variety' ” provision) of the 2016 final rule titled, “Enhancing Retailer Standards in the Supplemental Nutrition Assistance Program (SNAP)”, until such a time as regulatory modifications to the definition of “variety” are made that would increase the number of food items that count as acceptable staple food varieties for purposes of SNAP retailer eligibility. Using existing authority in the Food and Nutrition Act of 2008, the Agency proposes to modify the definition of the term “variety” as it pertains to the stocking requirements for SNAP authorized retail food stores. FNS inadvertently excluded from publication on www.regulations.gov two supporting documents to the proposed rule, the Regulatory Impact Analysis and the Regulatory Flexibility Analysis. These have now been published as part of Docket FNS-2019-0003. The agency is extending the comment period to provide the public an opportunity to review and provide comment on these documents as part of the rulemaking record. For additional information, see the proposed rule published April 5, 2019 (84 FR 13555).

Dated: June 7, 2019.
Brandon Lipps,
Administrator, Food and Nutrition Service.

[FR Doc. 2019-12630 Filed 6-13-19; 8:45 am]

BILLING CODE 3410-30-P